NATIONAL AERONAUTICS AND SPACE ADMINISTRATION

[NOTICE: 23-047]

Privacy Act of 1974; System of Records

AGENCY: National Aeronautics and Space Administration (NASA).

ACTION: Notice of a modified system of records.

SUMMARY: In accordance with the requirements of the Privacy Act of 1974, the National Aeronautics and Space Administration is providing public notice of a modification to a previously announced system of records, NASA Freedom of Information Act System, NASA 10FOIA. This notice updates formats and retention of records, their retrievability, and records access, notification, and contesting procedures. It updates locations and incorporates NASA Standard Routine Uses that were previously published separately from, and cited by reference in, this and other NASA systems of records notices. This notice also adds two new routine uses unique to this system, as set forth below under the caption SUPPLEMENTARY INFORMATION.

DATES: Submit comments within 30 calendar days from the date of this publication. The changes will take effect at the end of that period if no adverse comments are received.

ADDRESSES: Bill Edwards-Bodmer, Privacy Act Officer, Office of the Chief Information Officer, National Aeronautics and Space Administration Headquarters, Washington, DC 20546-0001, (757) 864-7998, NASA-PAOfficer@nasa.gov.

FOR FURTHER INFORMATION CONTACT: NASA Privacy Act Officer, Bill Edwards-Bodmer, (757) 864-7998, NASA-PAOfficer@nasa.gov.

SUPPLEMENTARY INFORMATION: This system notice includes minor revisions to NASA's existing system of records notice to bring its format into compliance with OMB guidance; and to update records access, notification, and contesting procedures consistent with NASA Privacy Act regulations. Significant changes include update of system location to reflect a cloud location, sub-system managers, and applicable retention schedule for the records. It clarifies data fields by which records are retrieved and provides an explanation that any records exempted under other systems of records will carry those exemptions if entered this FOIA system. This notice also adds two new routine uses unique to these records. Finally, it incorporates in whole, as appropriate, information formerly published separately in the Federal Register as appendix A, Location Numbers and Mailing Addresses of NASA Installations at which Records are Located, and appendix B, Standard Routine Uses—NASA, and removes references to “Appendix A” and “Appendix B.”

William Edwards-Bodmer,
NASA Privacy Act Officer.

SYSTEM NAME AND NUMBER:

NASA Freedom of Information Act System, NASA 10FOIA.

SECURITY CLASSIFICATION:

Unclassified.

SYSTEM LOCATION:

• Mary W. Jackson NASA Headquarters, National Aeronautics and Space Administration (NASA), Washington, DC 20546-0001.

• Amazon Web Services (AWS): 410 Terry Avenue North, Seattle, WA 98109.

SYSTEM MANAGER(S):

• System Manager: Principal Agency FOIA Officer, Office of Communications, Mary W. Jackson NASA Headquarters, National Aeronautics and Space Administration (NASA), Washington, DC 20546-0001.

• Subsystem Managers: See https://www.nasa.gov/FOIA/Contacts.html for a list of NASA FOIA Offices.

AUTHORITY FOR MAINTENANCE OF THE SYSTEM:

• 51 U.S.C. 20113(a).

• 44 U.S.C. 3101.

• 5 U.S.C. 552.

• 5 U.S.C. 552a.

• 14 CFR part 1206.

PURPOSE(S) OF THE SYSTEM:

Records in this system are maintained for the purpose of processing and tracking access requests and administrative appeals, and those received via referral or consultation from another agency under the FOIA and Privacy Act; for the purpose of maintaining a FOIA or Privacy Act administrative record regarding Agency action on such requests and appeals; and for the Agency in carrying out any other responsibilities under the FOIA and Privacy Act.

CATEGORIES OF INDIVIDUALS COVERED BY THE SYSTEM:

(1) Individuals or their representatives who have submitted Freedom of Information Act (FOIA)/Privacy Act (PA) requests for records and/or FOIA administrative appeals with NASA; (2) individuals whose requests for records have been sent for consultation or referred to the Agency by other government agencies; (3) individuals who are the subject of such requests and appeals; (4) individuals who file litigation based on their requests; Department of Justice or other government litigators; (5) and/or the NASA personnel assigned to handle such requests and appeals. Certain information about FOIA requestors, such as requesters' names and a description of the requested records is not exempt under the FOIA and is released to outside entities who request such information.

CATEGORIES OF RECORDS IN THE SYSTEM:

This system consists of records created, received via referral or consultation from another agency, or compiled in response to FOIA, FOIA/PA or PA requests for records or subsequent administrative appeals or litigations brought under the FOIA and Privacy Act and may include: The requester's name, address, telephone number, email address; the original requests and administrative appeals; responses to such requests and appeals; all related memoranda, correspondence, notes and other related or supporting documentation, and in some instances copies of requested records and records under administrative appeal.

RECORD SOURCE CATEGORIES:

Records are obtained from those individuals who submit initial requests and administrative appeals pursuant to the FOIA and the Privacy Act, or who file litigation regarding such requests and appeals; the agency records searched in the process of responding to such requests and appeals; Agency personnel assigned to handle such requests, appeals, and/or litigation; other agencies or entities that have referred to NASA requests concerning NASA records, or that have consulted with NASA regarding handling of particular requests; and submitters or subjects of records or information that have provided assistance to NASA in making access or amendment determinations.

ROUTINE USES OF RECORDS MAINTAINED IN THE SYSTEM, INCLUDING CATEGORIES OF USERS AND PURPOSES OF SUCH USES:

Any disclosures of information will be compatible with the purpose for which the Agency collected the information. Information in this system may be disclosed:

1. To the National Archives and Records Administration, Office of Government Information Services (OGIS), to the extent necessary to fulfill its responsibilities in 5 U.S.C. 552(h), to review administrative agency policies, procedures, and compliance with the Freedom of Information Act, and to facilitate OGIS' offering of mediation services to resolve disputes between persons making FOIA requests and administrative agencies.

2. To the Office of Management and Budget (OMB) or the Department of Justice (DOJ) to obtain advice regarding statutory and other requirements under the FOIA or Privacy Act.

In addition, information may be disclosed under the following NASA Standard Routine Uses:

1. Law Enforcement—When a record on its face, or in conjunction with other information, indicates a violation or potential violation of law, whether civil, criminal or regulatory in nature, and whether arising by general statute or particular program statute, or by regulation, rule, or order, disclosure may be made to the appropriate agency, whether Federal, foreign, State, local, or tribal, or other public authority responsible for enforcing, investigating or prosecuting such violation or charged with enforcing or implementing the statute, or rule, regulation, or order, if NASA determines by careful review that the records or information are both relevant and necessary to any enforcement, regulatory, investigative or prosecutive responsibility of the receiving entity.

2. Certain Disclosures to Other Agencies—A record from this SOR may be disclosed to a Federal, State, or local agency maintaining civil, criminal, or other relevant enforcement information or other pertinent information, such as current licenses, if necessary, to obtain information relevant to a NASA decision concerning the hiring or retention of an employee, the issuance of a security clearance, the letting of a contract, or the issuance of a license, grant, or other benefit.

3. Certain Disclosures to Other Federal Agencies—A record from this SOR may be disclosed to a Federal agency, in response to its request, for a matter concerning the hiring or retention of an employee, the issuance of a security clearance, the reporting of an investigation of an employee, the letting of a contract, or the issuance of a license, grant, or other benefit by the requesting agency, to the extent that the information is relevant and necessary to the requesting agency's decision on the matter.

4. Department of Justice—A record from this SOR may be disclosed to the Department of Justice when (a) NASA, or any component thereof; or (b) any employee of NASA in his or her official capacity; or (c) any employee of NASA in his or her individual capacity where the Department of Justice has agreed to represent the employee; or (d) the United States, where NASA determines that litigation is likely to affect NASA or any of its components, is a party to litigation or has an interest in such litigation, and by careful review, the use of such records by the Department of Justice is deemed by NASA to be relevant and necessary to the litigation.

5. Courts—A record from this SOR may be disclosed in an appropriate proceeding before a court, grand jury, or administrative or adjudicative body, when NASA determines that the records are relevant and necessary to the proceeding; or in an appropriate proceeding before an administrative or adjudicative body when the adjudicator determines the records to be relevant and necessary to the proceeding.

6. Response to an Actual or Suspected Compromise or Breach of Personally Identifiable Information—A record from this SOR may be disclosed to appropriate agencies, entities, and persons when (1) NASA suspects or has confirmed that there has been a breach of the system of records; (2) NASA has determined that as a result of the suspected or confirmed breach there is a risk of harm to individuals, NASA (including its information systems, programs, and operations), the Federal Government, or national security; and (3) the disclosure made to such agencies, entities, and persons is reasonably necessary to assist in connection with NASA's efforts to respond to the suspected or confirmed breach or to prevent, minimize, or remedy such harm.

7. Contractors—A record from this SOR may be disclosed to contractors, grantees, experts, consultants, students, volunteers, and others performing or working on a contract, service, grant, cooperative agreement, or other assignment for the Federal Government, when necessary to accomplish a NASA function related to this SOR. Individuals provided information under this routine use are subject to the same Privacy Act requirements and limitations on disclosure as are applicable to NASA employees.

8. Members of Congress—A record from this SOR may be disclosed to a Member of Congress or to a Congressional staff member in response to an inquiry of the Congressional office made at the written request of the constituent about whom the record is maintained.

9. Disclosures to Other Federal Agencies in Response to an Actual or Suspected Compromise or Breach of Personally Identifiable Information—A record from this SOR may be disclosed to another Federal agency or Federal entity, when NASA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

10. National Archives and Records Administration—A record from this SOR may be disclosed as a routine use to the officers and employees of the National Archives and Records Administration (NARA) pursuant to records management inspections being conducted under the authority of 44 U.S.C. 2904 and 2906.

11. Audit—A record from this SOR may be disclosed to another agency, or organization for purpose of performing audit or oversight operations as authorized by law, but only such information as is necessary and relevant to such audit or oversight function.

POLICIES AND PRACTICES FOR STORAGE OF RECORDS:

Records in this system are maintained in electronic and paper formats.

POLICIES AND PRACTICES FOR RETRIEVAL OF RECORDS:

Information is retrieved by the name of the requester or appellant; or the FOIA tracking number assigned to the request or appeal.

POLICIES AND PRACTICES FOR RETENTION AND DISPOSAL OF RECORDS:

Records are retained and disposed of in accordance with guidelines defined in NASA Records Retention Schedules, Schedule 1, Item 42.

ADMINISTRATIVE, TECHNICAL, AND PHYSICAL SAFEGUARDS:

Records are maintained on a secure NASA cloud location and protected in accordance with all Federal standards and those established in NASA regulations at 14 CFR 1212.605. Additionally, the cloud location and data management environments employ infrastructure encryption technologies both in data transmission and at rest on cloud locations. Electronic messages sent within and outside of the Agency that convey sensitive data are encrypted and transmitted by staff via pre-approved electronic encryption systems as required by NASA policy. An approved security plan is in place for the information system containing the records in accordance with the Federal Information Security Management Act of 2002 (FISMA) and OMB Circular A-130, Management of Federal Information Resources. Only authorized personnel requiring information in the official discharge of their duties are authorized access to records through approved access or authentication methods. Access to electronic records is achieved only from workstations within the NASA Intranet or via a secure Virtual Private Network (VPN) connection that requires two-factor hardware token authentication or via employee PIV badge authentication from NASA-issued computers. Non-electronic records are secured in locked rooms or files.

RECORD ACCESS PROCEDURES:

In accordance with 14 CFR part 1212, Privacy Act—NASA Regulations, information may be obtained by contacting in person or in writing the system or subsystem manager listed above at the location where the records are created and/or maintained. When seeking records about yourself from this system of records or any other NASA system of records, your request must conform with the Privacy Act regulations set forth in 14 CFR part 1212. You must first verify your identity, meaning that you must provide your full name, current address and date and place of birth. You must sign your request, and your signature must either be notarized or submitted under 28 U.S.C. 1746, a law that permits statements to be made under penalty of perjury as a substitute for notarization. Requests must contain the identifying data concerning the requester, e.g., first, middle, and last name; date of birth; description and time periods of the records desired. NASA Regulations also address contesting contents and appealing initial determinations regarding records access.

CONTESTING RECORD PROCEDURES:

In accordance with 14 CFR part 1212, Privacy Act—NASA Regulations, information may be obtained by contacting in person or in writing the system or subsystem manager listed above at the location where the records are created and/or maintained. Requests must contain the identifying data concerning the requester, e.g., first, middle, and last name; date of birth; description and time periods of the records desired. NASA Regulations also address contesting contents and appealing initial determinations regarding records access.

NOTIFICATION PROCEDURES:

In accordance with 14 CFR part 1212, Privacy Act—NASA Regulations, information may be obtained by contacting in person or in writing the system or subsystem manager listed above at the location where the records are created and/or maintained. Requests must contain the identifying data concerning the requester, e.g., first, middle, and last name; date of birth; description and time periods of the records desired. NASA Regulations also address contesting contents and appealing initial determinations regarding records access.

EXEMPTIONS PROMULGATED FOR THE SYSTEM:

Records entered this system will carry any exemptions to which they are subject in the primary system of records from which they originated.

HISTORY:

• (15-115, 80 FR 79937, PP. 79937-79947).

• (11-109, 76 FR 67763, pp. 67763-67764).

• (07-081, 72 FR 55817, pp. 55817-55833).

• (06-021, 71 FR 15477, pp. 15477-15478).

[FR Doc. 2023-09934 Filed 5-9-23; 8:45 am]

BILLING CODE 7510-13-P